FEDERAL COMMUNICATIONS COMMISSION

[Report No. 2757]

Petition for Reconsideration of Action in Rulemaking Proceeding

February 3, 2006.

A Petition for Reconsideration has been filed in the Commission's Rulemaking proceeding listed in this Public Notice and published pursuant to 47 CFR Section 1.429(e). The full text of this document is available for viewing and copying in Room CY-B402, 445 12th Street, SW., Washington, DC or may be purchased from the Commission's copy contractor, Best Copy and Printing, Inc. (BCPI) (1-800-378-3160). Oppositions to this petition must be filed by March 2, 2006. See Section 1.4(b)(1) of the Commission's rules (47 CFR 1.4(b)(1)). Replies to an opposition must be filed within 10 days after the time for filing oppositions have expired.

Subject: In the Matter of Implementation of the Satellite Home Viewer Extension and Reauthorization Act of 2004 (MM Docket No. 05-49).

In the Matter of Implementation of Section 340 of the Communications Act (MM Docket No. 05-49).

Number of Petitions Filed: 1.

Marlene H. Dortch,
Secretary.

[FR Doc. 06-1365 Filed 2-14-06; 8:45 am]

BILLING CODE 6712-01-P